DEPARTMENT OF AGRICULTURE

Rural Housing Service

[Docket No. RHS-24-NONE-0004]

60-Day Notice of Proposed Information Collection: Title Clearance and Loan Closing; OMB Control No.: 0575-0147

AGENCY: Rural Housing Service, USDA.

ACTION: Notice; request for comments.

SUMMARY: The United States Department of Agriculture (USDA), Rural Housing Service (RHS) announces its' intention to request an extension of a currently approved information collection and invites comments on this information collection.

DATES: Comments on this notice must be received by May 20, 2024 to be assured of consideration.

ADDRESSES: Comments may be submitted electronically by the Federal eRulemaking Portal, http://www.regulations.gov. In the “Search for dockets and documents on agency actions” box, enter the docket number “RHS-24-NONE-0004,” and click the “Search” button. From the search results: click on or locate the document title: “60-Day Notice of Proposed Information Collection: Title Clearance and Loan Closing; OMB Control No.: 0575-0147” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.”

Information on using Regulations.gov, including instructions for accessing documents, submitting comments, and viewing the docket after the close of the comment period, is available through the site's “FAQ” link.

All comments will be available for public inspection online at the Federal eRulemaking Portal (https://www.regulations.gov).

FOR FURTHER INFORMATION CONTACT: Crystal Pemberton, Management Analyst, Branch 1, Rural Development Innovation Center—Regulations Management Division, United States Department of Agriculture, 1400 Independence Avenue SW, South Building, Washington, DC 20250-1522. Telephone: (202) 260-8621. Email Crystal.Pemberton@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see, 5 CFR 1320.8(d)). This notice identifies the following information collection that the Rural Housing Service is submitting to OMB as an extension of an existing collection.

Title: Real Estate Title Clearance and Loan Closing.

OMB Control Number: 0575-0147.

Expiration Date of Approval: August 31, 2024.

Type of Request: Extension of a currently approved information collection.

Estimate of Burden: Public burden for this collection of information is estimated to average 0.25 hours per response.

Respondents: Individuals or Households, Businesses, Closing agents/Attorneys and the field office staff.

Estimated Number of Respondents: 22,214.

Estimated Number of Responses per Respondent: 1.

Estimate Number of Responses: 22,214.

Estimated Total Annual Burden on Respondents: 2,957 hours.

Abstract: Section 501 of title V of the Housing Act of 1949, as amended, authorizes the Secretary of Agriculture to extend financial assistance to construct, improve, alter, repair, replace or rehabilitate dwellings, farm buildings, and/or related facilities to provide decent, safe, and sanitary living conditions and adequate farm buildings and other structures in rural areas. Title clearance is required to assure the Agency that the loan is legally secured and has the required lien priority.

RHS will be collecting information to assure that those participating in this program remain eligible to proceed with loan closing and to ensure that loans are made with Federal funds are legally secured. The respondents are individuals or households, businesses, and non-profit institutions. The information required is used by the USDA personnel to verify that the required lien position has been obtained. The information is collected at the field office responsible for processing a loan application through loan closing. The information is also used to ensure the program is administered in manner consistent with legislative and administrative requirements. If not collected, the Agency would be unable to determine if the loan is adequately and legally secure. RHS continually strives to ensure that information collection burden is kept to a minimum.

Comments are invited on:

(a) Whether the proposed collection of information is necessary for the proper performance of the functions of RHS, including whether the information will have practical utility;

(b) the accuracy of the RHS' estimate of the burden of the proposed collection of information, including the validity of the methodology and assumptions used;

(c) ways to enhance the quality, utility, and clarity of the information to be collected; and

(d) ways to minimize the burden of the collection of information on those who are to respond, including using appropriate automated, electronic, mechanical, or other technological collection techniques or forms of information technology. All responses to this notice will be summarized and included in the request for OMB approval. All comments will become a matter of public record.

Copies of this information collection can be obtained from Crystal Pemberton, Rural Development Innovation Center—Regulations Management Division, at (202) 260-8621. Email: Crystal.Pemberton@usda.gov.

All responses to this notice will be summarized and included in the request for OMB approval. All comments will also become a matter of public record.

Yvonne Hsu,
Acting Administrator, Rural Housing Service.

[FR Doc. 2024-05758 Filed 3-18-24; 8:45 am]

BILLING CODE 3410-XV-P